ENVIRONMENTAL PROTECTION AGENCY

[EPA-HQ-OPP-2010-0246; FRL-8820-9]

Cydia Pomonella Granulovirus; Product Cancellation Order for a Pesticide Registration

AGENCY: Environmental Protection Agency (EPA).

ACTION: Notice.

SUMMARY: This notice announces EPA's cancellation order of a product containing the pesticide, Cydia pomonella granulovirus, pursuant to section 3 of the Federal Insecticide, Fungicide, and Rodenticide Act (FIFRA), as amended. This cancellation order follows the December 31, 2009, expiration of a conditional, time-limited registration. This is not the last Cydia pomonella granulovirus product registered for use in the United States. Any distribution, sale, or use of the Cydia pomonella granulovirus product subject to this cancellation order is permitted only in accordance with the terms of this order, including any existing stocks provisions.

DATES: The cancellation of the product listed in Table 1 of Unit II. was effective December 31, 2009.

FOR FURTHER INFORMATION CONTACT: Jeannine Kausch, Biopesticides and Pollution Prevention Division (7511P), Office of Pesticide Programs, Environmental Protection Agency, 1200 Pennsylvania Ave., NW., Washington, DC 20460-0001; telephone number: (703) 347-8920; fax number: (703) 305-0118; e-mail address: kausch.jeannine@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

EPA has established a docket for this action under docket identification (ID) number EPA-HQ-OPP-2010-0246. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. What Action is the Agency Taking?

This notice announces the expiration of a Cydia pomonella granulovirus end-use product registered under section 3 of FIFRA. Furthermore, this notice serves as a cancellation order and provides terms governing the distribution, sale, and use of existing stocks of the affected product. This registration is listed in Table 1 of this unit.

Table 1.— Cydia pomonella granulovirus Product Cancellation
EPA Registration Number | Product Name
72898-3 | VirosoftCP4

Table 2 of this unit includes the name and address of record for the registrant of the product in Table 1 of this unit.

Table 2.— Registrant of the Cancelled Product
EPA Company Number | Company Name and Address
72898 | Biotepp, Incorporated 575 Viewridge Drive Angwin, CA 94508

III. Cancellation Order

Pursuant to FIFRA section 3, EPA hereby announces the expiration of the Cydia pomonella granulovirus registration identified in Table 1 of Unit II. The Agency considers the expiration of a conditional, time-limited registration to be a cancellation under section 3 of FIFRA, for purposes of section 6(a)(1) of FIFRA. Any distribution, sale, or use of existing stocks of the cancelled product identified in Table 1 of Unit II. in a manner inconsistent with any of the Provisions for Disposition of Existing Stocks set forth in Unit IV. will be considered a violation of FIFRA.

IV. Provisions for Disposition of Existing Stocks

Existing stocks are those stocks of a registered pesticide product that are currently in the United States and that were packaged, labeled, and released for shipment prior to the effective date of the cancellation action. The cancellation order issued in this notice includes the following existing stock provisions:

1. The registrant may continue to sell or distribute existing stocks of the Cydia pomonella granulovirus product identified in Table 1 of Unit II. with previously approved labeling until June 30, 2011.

2. Persons other than the registrant may continue to sell or distribute existing stocks of the Cydia pomonella granulovirus product listed in Table 1 of Unit II. with previously approved labeling until such stocks are exhausted.

3. Persons other than the registrant may use existing stocks of the Cydia pomonella granulovirus product listed in Table 1 of Unit II. until existing stocks are exhausted. Any use of existing stocks must be in a manner consistent with the previously approved labeling for that product.

List of Subjects

Environmental protection, Pesticides and pests, Cancellation order.

Dated: April 6, 2010.
W. Michael McDavit,
Acting Director, Biopesticides and Pollution Prevention Division, Office of Pesticide Programs.

[FR Doc. 2010-8521 Filed 4-13-10; 8:45 am]

BILLING CODE 6560-50-S